DEPARTMENT OF ENERGY

Federal Energy Regulatory Commission

Combined Notice of Filings #1

Take notice that the Commission received the following exempt wholesale generator filings:

Docket Numbers: EG25-239-000.

Applicants: Dry Lake East Energy Center, LLC.

Description: Dry Lake East Energy Center, LLC submits Notice of Self-Certification of Exempt Wholesale Generator Status.

Filed Date: 3/19/25.

Accession Number: 20250319-5184.

Comment Date: 5 p.m. ET 4/9/25.

Docket Numbers: EG25-240-000.

Applicants: Key Energy Storage, LLC.

Description: Key Energy Storage, LLC submits Notice of Self-Certification of Exempt Wholesale Generator Status.

Filed Date: 3/19/25.

Accession Number: 20250319-5188.

Comment Date: 5 p.m. ET 4/9/25.

Take notice that the Commission received the following electric rate filings:

Docket Numbers: ER25-1299-000.

Applicants: Milagro Solar I, LLC.

Description: Supplement to 02/13/2025 Milagro Solar I, LLC tariff filing and Requests for Shortened Comment Period and Waiver.

Filed Date: 3/18/25.

Accession Number: 20250318-5199.

Comment Date: 5 p.m. ET 3/28/25.

Docket Numbers: ER25-1710-000.

Applicants: Puget Sound Energy, Inc.

Description: § 205(d) Rate Filing: Certificate of Concurrence—PSE SA 5158—LGIA with Jane Wind Energy, LLC to be effective 2/26/2025.

Filed Date: 3/20/25.

Accession Number: 20250320-5001.

Comment Date: 5 p.m. ET 4/10/25.

Docket Numbers: ER25-1711-000.

Applicants: Puget Sound Energy, Inc.

Description: § 205(d) Rate Filing: Certificate of Concurrence—PSE SA 5159—LGIA with Jane Wind Energy, LLC to be effective 2/26/2025.

Filed Date: 3/20/25.

Accession Number: 20250320-5002.

Comment Date: 5 p.m. ET 4/10/25.

Docket Numbers: ER25-1712-000.

Applicants: NorthWestern Corporation.

Description: § 205(d) Rate Filing: SA 1012—Firm PTP Trans. Service with Phillips 66 to be effective 4/1/2025.

Filed Date: 3/20/25.

Accession Number: 20250320-5053.

Comment Date: 5 p.m. ET 4/10/25.

Docket Numbers: ER25-1713-000.

Applicants: TransCanada Power Marketing Ltd.

Description: Tariff Amendment: TransCanada Power Marketing Ltd.—Cancellation of Market-Based Rate Tariff to be effective 3/20/2025.

Filed Date: 3/20/25.

Accession Number: 20250320-5061.

Comment Date: 5 p.m. ET 4/10/25.

Docket Numbers: ER25-1714-000.

Applicants: PacifiCorp.

Description: Compliance filing: Order No. 904 Compliance Filing to be effective 5/31/2025.

Filed Date: 3/20/25.

Accession Number: 20250320-5106.

Comment Date: 5 p.m. ET 4/10/25.

Docket Numbers: ER25-1715-000.

Applicants: PacifiCorp.

Description: § 205(d) Rate Filing: Construction Agreement Windstar_JOOMA (RS No. 797) to be effective 5/20/2025.

Filed Date: 3/20/25.

Accession Number: 20250320-5112.

Comment Date: 5 p.m. ET 4/10/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 20, 2025.
Carlos D. Clay,
Deputy Secretary.

[FR Doc. 2025-05105 Filed 3-25-25; 8:45 am]

BILLING CODE 6717-01-P